NATIONAL SCIENCE FOUNDATION

Special Emphasis Panel in Chemical and Transport Systems; Notice of Meeting

In accordance with the Federal Advisory Committee Act (Pub. L. 92-463, as amended), the National Science Foundation announces the following meeting:

Name: Special Emphasis Panel in Chemical and Transport Systems (1190).

Date and Time: May 24, 2000, 8 a.m. to 4:30 p.m.

Place: National Science Foundation, 4201 Wilson Boulevard, Room 110, Arlington, VA 22230

Type of Meeting: Closed.

Contact Person: Dr. Geoffrey Prentice, Program Director, Kinetics, Catalysis & Molecular Processes, Division of Chemical and Transport Systems (CTS), Room 525, (703) 306-1371.

Purpose of Meeting: To provide advice and recommendations concerning proposals submitted to NSF for financial support.

Agenda: To review progress on the FY 1999 XYZ on a Chip Grants and to discuss emerging areas in the field.

Reason for Closing: The proposals being reviewed include information of a proprietary or confidential nature, including technical information; financial data, such as salaries and personal information concerning individuals associated with the proposals. These matters are exempt under 5 U.S.C. 552b(c)(4) and (6) of the Government in the Sunshine Act.

Dated: April 10, 2000.
Karen J. York,
Committee Management Officer.

[FR Doc. 00-9203 Filed 4-12-00; 8:45 am]

BILLING CODE 7555-01-M